DEPARTMENT OF COMMERCE

Foreign-Trade Zones Board

[S-131-2020]

Foreign-Trade Zone 229—Charleston, West Virginia; Application for Subzone; Childers Guns, LLC; Fairmont, West Virginia

An application has been submitted to the Foreign-Trade Zones (FTZ) Board by the West Virginia Economic Development Authority, grantee of FTZ 229, requesting subzone status for the facility of Childers Guns, LLC, located in Fairmont, West Virginia. The application was submitted pursuant to the provisions of the Foreign-Trade Zones Act, as amended (19 U.S.C. 81a-81u), and the regulations of the FTZ Board (15 CFR part 400). It was formally docketed on July 29, 2020.

The proposed subzone (0.11 acres) is located at 521 Gaston Avenue, Fairmont, West Virginia. No authorization for production activity has been requested at this time. The proposed subzone would be subject to the existing activation limit of FTZ 229.

In accordance with the FTZ Board's regulations, Christopher Kemp of the FTZ Staff is designated examiner to review the application and make recommendations to the Executive Secretary.

Public comment is invited from interested parties. Submissions shall be addressed to the FTZ Board's Executive Secretary and sent to: ftz@trade.gov. The closing period for their receipt is September 14, 2020. Rebuttal comments in response to material submitted during the foregoing period may be submitted during the subsequent 15-day period to September 28, 2020.

A copy of the application will be available for public inspection in the “Reading Room” section of the FTZ Board's website, which is accessible via www.trade.gov/ftz.

For further information, contact Christopher Kemp at Christopher.Kemp@trade.gov or (202) 482-0862.

Dated: July 30, 2020.
Andrew McGilvray,
Executive Secretary.

[FR Doc. 2020-16963 Filed 8-3-20; 8:45 am]

BILLING CODE 3510-DS-P